DEPARTMENT OF THE INTERIOR

Fish and Wildlife Service

Endangered and Threatened Wildlife and Plants; Initiation of 5-Year Reviews of 56 Species in California and Nevada

AGENCY: Fish and Wildlife Service, Interior.

ACTION: Notice of review.

SUMMARY: We, the U.S. Fish and Wildlife Service, announce the initiation of a 5-year review of 56 species under section 4(c)(2)(B) of the Endangered Species Act (Act). The purpose of a 5-year review is to ensure that the classification of a species as threatened or endangered on the List of Endangered and Threatened Wildlife and Plants is accurate and based on the best scientific and commercial data available at the time of the review. We are requesting submission of any such information that has become available since the original listing of each of these 56 species. Based on the results of these 5-year reviews, we will make the requisite findings under section 4(c)(2)(A) of the Act.

DATES: We must receive your information no later than May 22, 2006. However, we will continue to accept new information about any listed species at any time.

ADDRESSES: See SUPPLEMENTARY INFORMATION for instructions on how to submit information and review the information that we receive on these species.

FOR FURTHER INFORMATION CONTACT: For species-specific information, contact the appropriate individual in Table 3 under “Public Solicitation of New Information.”

SUPPLEMENTARY INFORMATION:

Background

Why Is a 5-Year Review Conducted?

Under the Endangered Species Act (Act) (16 U.S.C. 1531 et seq.), we maintain a List of Endangered and Threatened Wildlife and Plants at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the 56 species listed in Table 1.

Table 1.—Summary of Listing Information for 56 Species in California and Nevada
Common name | Scientific name | Status | Where listed | Final listing rule
animals
Ash Meadows Amargosa pupfish | Cyprinodon nevadensis mionectes | Endangered | U.S.A. (NV) | 48 FR 40178 (02-SEP-83)
Behren's silverspot butterfly | Speyeria zerene behrensii | Endangered | U.S.A. (CA) | 62 FR 64306 (05-DEC-97)
Blunt-nosed leopard lizard | Gambelia silus | Endangered | U.S.A. (CA) | 32 FR 4001 (11-MAR-67)
California freshwater shrimp | Syncaris pacifica | Endangered | U.S.A. (CA) | 53 FR 43884 (31-OCT-88)
Conservancy fairy shrimp | Branchinecta conservatio | Endangered | U.S.A. (CA) | 59 FR 48136 (19-SEP-94)
Delta green ground beetle | Elaphrus viridis | Threatened | U.S.A. (CA) | 45 FR 52807 (08-AUG-80)
Desert dace | Eremichthys acros | Threatened | U.S.A. (NV) | 50 FR 50304 (10-DEC-85)
Fresno kangaroo rat | Dipodomys nitratoides exilis | Endangered | U.S.A. (CA) | 50 FR 4222 (30-JAN-85)
Giant kangaroo rat | Dipodomys ingens | Endangered | U.S.A. (CA) | 52 FR 283 (05-JAN-87)
Inyo California towhee | Pipilo crissalis eremophilus | Threatened | U.S.A. (CA) | 52 FR 28780 (03-AUG-87)
Kern primrose sphinx moth | Euproserpinus euterpe | Threatened | U.S.A. (CA) | 45 FR 24088 (08-APR-80)
Laguna Mountains skipper | Pyrgus ruralis lagunae | Endangered | U.S.A. (CA) | 62 FR 2313 (16-JAN-97)
Longhorn fairy shrimp | Branchinecta longiantenna | Endangered | U.S.A. (CA) | 59 FR 48136 (19-SEP-94)
Modoc sucker | Catostomus microps | Endangered | U.S.A. (CA) | 50 FR 24526 (11-JUN-85)
Pahrump poolfish | Empetrichthys latos | Endangered | U.S.A. (NV) | 32 FR 4001 (11-MAR-67)
Paiute cutthroat trout | Oncorhynchus clarki seleniris | Threatened | U.S.A. (CA) | 32 FR 4001 (11-MAR-67)
Riverside fairy shrimp | Streptocephalus woottoni | Endangered | U.S.A. (CA) | 58 FR 41384 (03-AUG-93)
San Diego fairy shrimp | Branchinecta sandiegonensis | Endangered | U.S.A. (CA) | 62 FR 4925 (03-FEB-97)
San Joaquin kit fox | Vulpes macrotis mutica | Endangered | U.S.A. (CA) | 32 FR 4001 (11-MAR-67)
Tidewater goby | Eucyclogobius newberryi | Endangered | U.S.A. (CA) | 59 FR 5494 (04-FEB-94)
Vernal pool fairy shrimp | Branchinecta lynchi | Threatened | U.S.A. (CA, OR) | 59 FR 48136 (19-SEP-94)
Vernal pool tadpole shrimp | Lepidurus packardi | Endangered | U.S.A. (CA) | 59 FR 48136 (19-SEP-94)
White River spinedace | Lepidomeda albivallis | Endangered | U.S.A. (NV) | 50 FR 37194 (12-SEP-85)
plants
Bakersfield cactus | Opuntia treleasei | Endangered | U.S.A. (CA) | 55 FR 29361 (19-JUL-90)
Ben Lomond spineflower | Chorizanthe pungens var. hartwegiana | Endangered | U.S.A. (CA) | 59 FR 5499 (04-FEB-94)
Butte County meadowfoam | Limnanthes floccosa ssp. californica | Endangered | U.S.A. (CA) | 57 FR 24192 (08-JUN-92)
California jewelflower | Caulanthus californicus | Endangered | U.S.A. (CA) | 55 FR 29361 (19-JUL-90)
Catalina Island mountain-mahogany | Cercocarpus traskiae | Endangered | U.S.A. (CA) | 62 FR 42692 (08-AUG-97)
Chorro Creek bog thistle | Cirsium fontinale var. obispoense | Endangered | U.S.A. (CA) | 59 FR 64613 (15-DEC-94)
Coachella Valley milk-vetch | Astragalus lentiginosus var. coachellae | Endangered | U.S.A. (CA) | 63 FR 53596 (06-OCT-98)
Colusa grass | Neostapfia colusana | Threatened | U.S.A. (CA) | 62 FR 14338 (26-MAR-97)
Hairy Orcutt grass | Orcuttia pilosa | Endangered | U.S.A. (CA) | 62 FR 14338 (26-MAR-97)
Hoffmann's rock-cress | Arabis hoffmannii | Endangered | U.S.A. (CA) | 62 FR 40954 (31-JUL-97)
Howell's spineflower | Chorianthe howellii | Endangered | U.S.A. (CA) | 57 FR 27848 (22-JUN-92)
Indian Knob mountain balm | Eriodictyon altissimum | Endangered | U.S.A. (CA) | 59 FR 64613 (15-DEC-94)
Kern mallow | Eremalche kernensis | Endangered | U.S.A. (CA) | 55 FR 29361 (19-JUL-90)
Lane Mountain milk-vetch | Astragalus jaegerianus | Endangered | U.S.A. (CA) | 63 FR 53596 (06-OCT-98)
Menzies' wallflower | Erysimum menziesii | Endangered | U.S.A. (CA) | 57 FR 27848 (22-JUN-92)
Monterey gilia | Gilia tenuiflora ssp. arenaria | Endangered | U.S.A. (CA) | 57 FR 27848 (22-JUN-92)
Morro manzanita | Arctostaphylos morroensis | Threatened | U.S.A. (CA) | 59 FR 64613 (15-DEC-94)
Munz's onion | Allium munzii | Endangered | U.S.A. (CA) | 63 FR 54975 (13-OCT-98)
Otay tarplant | Deinandra (=Hemizonia) conjugens | Threatened | U.S.A. (CA); Mexico (B.C.) | 63 FR 54937 (13-OCT-98)
Orcutt's spineflower | Chorizanthe orcuttiana | Endangered | U.S.A. (CA) | 61 FR 52370 (07-OCT-96)
Pismo clarkia | Clarkia speciosa ssp. immaculata | Endangered | U.S.A. (CA) | 59 FR 64613 (15-DEC-94)
Sacramento Orcutt grass | Orcuttia viscida | Endangered | U.S.A. (CA) | 62 FR 14338 (26-MAR-97)
San Jacinto Valley crownscale | Atriplex coronata var. notatior | Endangered | U.S.A. (CA) | 63 FR 54975 (13-OCT-98)
Santa Cruz Island bush-mallow | Malacothamnus fasciculatus var. nesioticus | Endangered | U.S.A. (CA) | 62 FR 40954 (31-JUL-97)
Santa Rosa Island manzanita | Arctostaphylos confertiflora | Endangered | U.S.A. (CA) | 62 FR 40954 (31-JUL-97)
Showy Indian clover | Trifolium amoenum | Endangered | U.S.A. (CA) | 62 FR 54791 (22-OCT-97)
Slender-horned spineflower | Dodecahema leptoceras | Endangered | U.S.A. (CA) | 52 FR 36265 (28-SEP-87)
Slender Orcutt grass | Orcuttia tenuis | Threatened | U.S.A. (CA) | 62 FR 14338 (26-MAR-97)
Soft-leaved paintbrush | Castilleja mollis | Endangered | U.S.A. (CA) | 62 FR 40954 (31-JUL-97)
Spreading navarretia | Navarretia fossalis | Threatened | U.S.A. (CA); Mexico (B.C.) | 63 FR 54975 (13-OCT-98)
Steamboat buckwheat | Eriogonum ovalifolium var. williamsiae | Endangered | U.S.A. (NV) | 51 FR 24669 (08-JUL-86)
Thread-leaved brodiaea | Brodiaea filifolia | Threatened | U.S.A. (CA) | 63 FR 54975 (13-OCT-98)
Willowy monardella | Monardella linoides ssp. viminea | Endangered | U.S.A. (CA); Mexico | 63 FR 54937 (13-OCT-98)

What Information Is Considered in the Review?

A 5-year review considers all new information available at the time of the review. In conducting these reviews, we consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find information concerning the 56 species listed in Table 1 indicating that a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we solicit new information from the public, concerned governmental agencies, Tribes, the scientific community, environmental entities, industry, and any other interested parties concerning the status of the species.

If you wish to provide information for any species included in these 5-year reviews, submit your comments and materials to the Field Supervisors at the appropriate Fish and Wildlife Office as presented in Table 2. Our practice is to make comments, including names and home addresses of respondents, available for public review during regular business hours. Respondents may request that we withhold a respondent's identity, as allowable by law. If you wish us to withhold your name or address, you must state this request prominently at the beginning of your comment. We will not consider anonymous comments, however. To the extent consistent with applicable law, we will make all submissions from organizations or businesses, and from individuals identifying themselves as representatives or officials of organizations or businesses, available for public inspection in their entirety. Comments and materials received will be available for public inspection, by appointment, during normal business hours at the offices where the comments are submitted.

Table 2.—Addresses for Submitting Comments on the 5-Year Reviews of 56 Species in California and Nevada
Species | Addresses for comments
Laguna Mountains skipper | Field Supervisor, Attention: 5-Year Review, U.S. Fish and Wildlife Service, Carlsbad Fish and Wildlife Office, 6010 Hidden Valley Road, Carlsbad, CA 92009. Information may also be submitted electronically at FW85yr06@fws.gov.
Riverside fairy shrimp
San Diego fairy shrimp
Catalina Island mountain mahogany
Coachella Valley milk-vetch
Munz's onion
Orcutt's spineflower
Otay tarplant
San Jacinto Valley crownscale
Slender-horned spineflower
Spreading navarretia
Thread-leaved brodiaea
Willowy monardella
Inyo California towhee | Field Supervisor, Attention: 5-Year Review, U.S. Fish and Wildlife Service, Ventura Fish and Wildlife Office, 2493 Portola Road, Suite B, Ventura, CA 93003. Information may also be submitted electronically at fw1vfwo5year@fws.gov.
Tidewater goby
Ben Lomond spineflower
Chorro Creek bog thistle
Hoffmann's rock-cress
Indian Knob mountain balm
Lane Mountain milk-vetch
Menzies' wallflower
Monterey gilia
Morro manzanita
Pismo clarkia
Santa Cruz Island bush-mallow
Santa Rosa Island manzanita
Soft-leaved paintbrush
Blunt-nosed leopard lizard | Field Supervisor, Attention: 5-Year Review, U.S. Fish and Wildlife Service, Sacramento Fish and Wildlife Office, 2800 Cottage Way, Room W-2605, Sacramento, CA 95825. Information may also be submitted electronically at fw1sfo5year@fws.gov.
California freshwater shrimp
Conservancy fairy shrimp
Delta green ground beetle
Fresno kangaroo rat
Giant kangaroo rat
Kern primrose sphinx moth
Longhorn fairy shrimp
San Joaquin kit fox
Vernal pool fairy shrimp
Vernal pool tadpole shrimp
Bakersfield cactus
Butte County meadowfoam
California jewelflower
Colusa grass
Hairy Orcutt grass
Kern mallow
Sacramento Orcutt grass
Showy Indian clover
Slender Orcutt grass
Ash Meadows Amargosa pupfish | Field Supervisor, Attention: 5-Year Review, U.S. Fish and Wildlife Service, Nevada Fish and Wildlife Office, 1340 Financial Blvd., Suite 234, Reno, NV 89502. Information may also be submitted electronically at fw1nfwo_5yr@fws.gov.
Desert dace
Pahrump poolfish
Paiute cutthroat trout
White River spinedace
Steamboat buckwheat
Behren's silverspot butterfly | Field Supervisor, Attention: 5-Year Review, U.S. Fish and Wildlife Service, Arcata Fish and Wildlife Office, 11655 Heindon Road, Arcata, CA 95521. Information may also be submitted electronically at howellsspineflower@fws.gov for Howell's spineflower and behrenssilverspot@fws.gov for Behren's silverspot butterfly. Howell's spineflower
Modoc sucker | Field Supervisor, Attention: 5-Year Review, U.S. Fish and Wildlife Service, Klamath Falls Fish and Wildlife Office, 6610 Washburn Way, Klamath Falls, OR 97603. Information may also be submitted electronically at kfalls@fws.gov.

For further information on any of the 56 species, contact the person identified for that species in Table 3.

Table 3.—Information Contacts for 56 Species Undergoing 5-Year Review in California and Nevada
Species | Information contact
Laguna Mountains skipper | Jim Bartel at the Carlsbad Fish and Wildlife Office at (760) 431-9440.
Riverside fairy shrimp
San Diego fairy shrimp
Catalina Island mountain mahogany
Coachella Valley milk-vetch
Munz's onion
Orcutt's spineflower
Otay tarplant
San Jacinto Valley crownscale
Slender-horned spineflower
Spreading navarretia
Thread-leaved brodiaea
Willowy monardella
Inyo California towhee | Mike McCrary at the Ventura Fish and Wildlife Office at (805) 644-1766. Tidewater goby
Ben Lomond spineflower | Connie Rutherford at the Ventura Fish and Wildlife Office at (805) 644-1766.
Chorro Creek bog thistle
Hoffmann's rock-cress
Indian Knob mountain balm
Lane Mountain milk-vetch
Menzies' wallflower
Monterey gilia
Morro manzanita
Pismo clarkia
Santa Cruz Island bush-mallow
Santa Rosa Island manzanita
Soft-leaved paintbrush
Blunt-nosed leopard lizard | Craig Aubrey at the Sacramento Fish and Wildlife Office at (916) 414-6600.
California freshwater shrimp
Conservancy fairy shrimp
Delta green ground beetle
Fresno kangaroo rat
Giant kangaroo rat
Kern primrose sphinx moth
Longhorn fairy shrimp
San Joaquin kit fox
Vernal pool fairy shrimp
Vernal pool tadpole shrimp
Bakersfield cactus
Butte County meadowfoam
California jewelflower
Colusa grass
Hairy Orcutt grass
Kern mallow
Sacramento Orcutt grass
Showy Indian clover
Slender Orcutt grass
Ash Meadows Amargosa pupfish | Jody Brown at the Nevada Fish and Wildlife Office at (775) 861-6300.
Desert dace
Pahrump poolfish
Paiute cutthroat trout
White River spinedace
Steamboat buckwheat
Howell's spineflower | Dave Imper at the Arcata Fish and Wildlife Office at (707) 822-7201.
Behren's silverspot butterfly | Jim Watkins at the Arcata Fish and Wildlife Office at (707) 822-7201.
Modoc sucker | Ron Larson at the Klamath Falls Fish and Wildlife Office at (541) 885-8481.

Authority

This document is published under the authority of the Endangered Species Act of 1973, as amended (16 U.S.C. 1531 et seq.).

Dated: February 9, 2006.
Paul Henson,
Manager, California/Nevada Operations Office, U.S. Fish and Wildlife Service.

[FR Doc. E6-4120 Filed 3-21-06; 8:45 am]

BILLING CODE 4310-55-P